DEPARTMENT OF AGRICULTURE

Agricultural Marketing Service

[Docket No. TB-00-23]

Public Hearing Regarding Establishment of a New Tobacco Auction Market

Notice is hereby given of a public hearing regarding an application to combine the Fairmont-Fair Bluff, North Carolina and Loris, South Carolina, tobacco markets.

Dates: November 9, 2000.

Time: 9:30 a.m. local time.

Place: Dales Family Seafood and Steakhouse, 100 701 Bypass, Tabor City, North Carolina.

Purpose: To hear testimony and to receive evidence regarding an application for tobacco inspection and price support services to a new market, which would be a consolidation of the currently designated markets of Fairmont-Fair Bluff, North Carolina and Loris, South Carolina. The application was made by Robert L. Boyd, Sales Supervisor, Loris, South Carolina, and Curtis McGirt, Sales Supervisor, Fairmont, North Carolina.

This public hearing will be conducted pursuant to the joint policy statement and regulations governing the extension of tobacco inspection and price support services to new markets and to additional sales on designated markets (7 CFR 29.1 through 29.3), issued under the Tobacco Inspection Act, as amended (7 U.S.C. 511 et seq.) and the Commodity Credit Corporation Charter Act, as amended (15 U.S.C. 714 et seq.).

Dated: October 27, 2000.
Kathleen A. Merrigan,
Administrator, Agricultural Marketing Service.

[FR Doc. 00-28143 Filed 11-1-00; 8:45 am]

BILLING CODE 3410-02-P